INTERNATIONAL TRADE COMMISSION

[USITC SE-04-009]

Government in the Sunshine Act Meeting Notice

AGENCY: International Trade Commission.

Time and Date: April 16, 2004 at 11 a.m.

Place: Room 101, 500 E Street SW., Washington, DC 20436, Telephone: (202) 205-2000.

Status: Open to the public.

Matters to be Considered: 1. Agenda for future meetings: none.

2. Minutes.

3. Ratification List.

4. Inv. Nos. 731-TA-1073-1075 (Preliminary) (Certain Circular Welded Carbon Quality Line Pipe from China, Korea, and Mexico)—briefing and vote. (The Commission is currently scheduled to transmit its determination to the Secretary of Commerce on or before April 19, 2004; Commissioners' opinions are currently scheduled to be transmitted to the Secretary of Commerce on or before April 26, 2004.)

5. Outstanding action jackets: None.

In accordance with Commission policy, subject matter listed above, not disposed of at the scheduled meeting, may be carried over to the agenda of the following meeting.

By order of the Commission.
Issued: April 6, 2004.
Marilyn R. Abbott,
Secretary to the Commission.

[FR Doc. 04-8198 Filed 4-7-04; 10:46 am]

BILLING CODE 7020-02-P